DEPARTMENT OF ENERGY

Federal Energy Regulatory Commission

[Docket No. AC03-46-000, et al.]

First Energy, et al.; Electric Rate and Corporate Filings

July 9, 2003.

The following filings have been made with the Commission. The filings are listed in ascending order within each docket classification.

1. First Energy

[Docket No. AC03-46-000]

Take notice that on June 18, 2003, the Lake County, Ohio Auditor and the Lake County, Ohio Board of Revision (Auditor and Board of Revision) submitted a request for a ruling on the appropriate accounting for the reactor building complex at First Energy's Perry Plant. The Auditor and Board of Revision contend that the majority of the costs of the reactor building complex should have been classified to 18 CFR part 101, Account 321, Structures and Improvements, and not to 18 CFR part 101, Account 322, Reactor Plant Equipment. The Auditor and the Board of Revision explain that classification to the former account would result in the costs being taxed as real property by Lake County, while classification to the latter account would result in the costs being taxed as personal property by the State of Ohio.

Comment Date: July 31, 2003.

2. PDI Stoneman, Inc. Mid-American Power, LLC

[Docket No. EC03-100-000]

Take notice that PDI Stoneman, Inc. (PDI Stoneman) and Mid-American Power, LLC (Mid-American) (collectively, the Applicants), on June 30, 2003, submitted an application, pursuant to Section 203 of the Federal Power Act and part 33 of the Commission's regulations, requesting authorization for PDI Stoneman to complete its acquisition of Mid-American. Mid-American was initially owned by three other companies and is the owner of a single public utility facility, the EJ Stoneman Power Generation Station, a 53 MW generating plant located in Cassville, Wisconsin, which Mid-American acquired in 1996 from Dairyland Power Cooperative. Applicants request Commission action within the 60-day time period contemplated in Order No. 642 for applications that do not require competitive analysis.

PDI Stoneman states that copies of the filing were served on the Public Service Commissions of Wisconsin and Michigan where PDI Stoneman's regulated utility affiliates provide service.

Comment Date: July 21, 2003.

3. West Texas Utilities Company

[Docket No. EL00-79-000]

Take notice that on June 27, 2003, West Texas Utilities Company tendered for filing a refund report in compliance with the Commission's Order, dated December 16, 2001, in Mid-Tex G&T Electric Cooperative, Inc., et al. v. West Texas Utilities Company, 97 FERC ¶ 61,376.

Comment Date: July 28, 2003.

4. Southern California Edison Company

[Docket Nos. ER97-2355-010 and ER98-2322-005]

Take notice that on July 3, 2003, Southern California Edison Company (SCE) tendered for filing its refund report in compliance with Opinion Nos. 458 and 458-A.

SCE states that copies of this filing were served upon the official service list compiled for these dockets.

Comment Date: July 24, 2003.

5. California Independent System Operator Corporation

[Docket No. ER02-2489-002]

Take notice that on July 2, 2003, the California Independent System Operator Corporation (ISO) submitted a filing in compliance with the letter order issued by the Commission in Docket No. ER02-2489-001 on June 2, 2003. The ISO states it has served copies of this filing upon all entities that are on the official service list for the docket.

Comment Date: July 23, 2003.

6. Empire District Electric Company

[Docket No. ER03-626-002]

Take notice that on July 2, 2003, The Empire District Electric Company (Empire) submitted revisions to its FERC Electric Tariff, First Revised Volume No. 1, originally submitted on May 14, 2003, in order to comply with FERC Order No. 614. Empire states that copies of this filing were served on parties to this proceeding and on all affected state commissions.

Comment Date: July 23, 2003.

7. California Independent System Operator Corporation

[Docket No. ER03-746-001]

Take notice that on July 3, 2003, the California Independent System Operator Corporation (ISO) submitted a filing in compliance with the Commission's June 13, 2003 Order issued in Docket No. ER03-746-000, 103 FERC ¶ 61,331. The ISO states that copies of this filing were served upon all entities that are on the official service list for the docket.

Comment Date: July 24, 2003.

8. California Power Exchange Corporation

[Docket No. ER03-791-001]

Take notice that on July 2, 2003, the California Power Exchange Corporation made a filing to comply with the Commission's July 1, 2003 Order in Docket No. ER03-791-000, 104 FERC ¶ 61,005.

Comment Date: July 23, 2003.

9. American Electric Power Service Corporation

[Docket No. ER03-801-001]

Take notice that on July 3, 2003, American Electric Power Service Corporation (AEPSC) tendered for filing a tariff sheet canceling Ohio Power Company's FERC Electric Rate Schedule No. 71, in compliance with the Commission's Letter Order of June 6, 2003 in Docket ER03-801-000.

AEPSC requests an effective date of June 30, 2003 for the cancellation. AEPSC states that it has served copies of the filing upon The Ohio Edison Company, and upon the Public Utilities Commission of Ohio.

Comment Date: July 24, 2003.

10. American Electric Power Service Corporation

[Docket No. ER03-805-001]

Take notice that on July 3, 2003, American Electric Power Service Corporation (AEPSC) tendered for filing a tariff sheet canceling Ohio Power Company's FERC Electric Rate Schedule No. 70 and Columbus Southern Power Company's FERC Electric Rate Schedule No. 17, in compliance with the Commission's Letter Order of June 6, 2003 in Docket No. ER03-805-000.

AEPSC requests an effective date of June 30, 2003 for the cancellation. AEPSC states that it has served copies of the filing upon Buckeye Power, Inc., the Cincinnati Gas and Electric Company, the Dayton Power & Light Company, Monongahela Power Company and the Toledo Edison Company, and upon the Public Utilities Commission of Ohio.

Comment Date: July 24, 2003.

11. Westar Energy, Inc.

[Docket No. ER03-939-001]

Take notice that on July 2, 2003, Westar Energy, Inc. (Westar) submitted for filing Second Revised FPC No. 72, Electric Interconnection Contract between Westar and Western Light & Telephone Company, Inc., now known as Aquila Networks-WPK (Aquila). With this filing, Westar states that it is withdrawing and substituting its earlier filing of June 10, 2003 in Docket No. ER03-939-000.

Westar states that a copy of this filing was served upon the Kansas Corporation Commission and Aquila.

Comment Date: July 23, 2003.

12. CERITAS Energy, LLC

[Docket No. ER03-963-001]

Take notice that on July 3, 2003, CERITAS Energy, LLC (CERITAS Energy) filed an amendment to its June 17, 2003 petition for acceptance of Rate Schedule FERC No. 1, the granting of certain blanket approvals, including the authority to sell electricity at market-based rates; and the waiver of certain Commission regulations. CERITAS Energy states that the amended Petition revises Rate Schedule FERC No. 1 to conform with Commission Order No. 614 regarding designation of electric rate schedule sheets.

Comment Date: July 24, 2003.

13. Pine Bluff Energy LLC

[Docket No. ER03-1015-000]

Take notice that on July 1, 2003, Pine Bluff Energy LLC, tendered for filing, under Section 205 of the Federal Power Act, a rate schedule for reactive power from the Pine Bluff Energy Center.

Comment Date: July 22, 2003.

14. PPM Two LLC

[Docket No. ER03-1017-000]

Take notice that on July 2, 2003, PPM Two LLC, tendered for filing a Notice of Cancellation of Rate Schedule FERC No. 1 and related Statement of Policy and Code of Conduct.

Comment Date: July 23, 2003.

15. Midwest Independent Transmission System Operator, Inc.

[Docket No. ER03-1018-000]

Take notice that on July 2, 2003, the Midwest Independent Transmission System Operator, Inc., (Midwest ISO) submitted for filing proposed revisions to Schedule 10 of the Midwest ISO Open Access Transmission Tariff (OATT), FERC Electric Tariff, Second Revised Volume No. 1.

The Midwest ISO has requested waiver of the service requirements set for in 18 CFR 385.2010. The Midwest ISO states that it has electronically served a copy of this filing, with attachments, to all Midwest ISO Members, Member representatives of Transmission Owners and Non-Transmission Owners, the Midwest ISO Advisory Committee participants, Policy Subcommittee participants, as well as all state commissions within the region. In addition, Midwest ISO also states that the filing has been electronically posted on the Midwest ISO's Web site at http://www.midwestiso.org under the heading “Filing to FERC” for other interested parties in this matter. The Midwest ISO will provide hard copies to any interested parties upon request.

Comment Date: July 23, 2003.

16. Portland General Electric Company

[Docket No. ER03-1019-000]

Take notice that on July 2, 2003, Portland General Electric Company (PGE) tendered for filing Revised Tariff Sheets to the Second Revised Volume No. 8 of PGE's FERC Electric Tariff. PGE states that the revisions are intended to broaden the application of Energy Imbalance Service Schedule 4 pursuant to PGE's Open Access Transmission Tariff (OATT).

PGE requests a waiver of the Commission's 60-day notice requirement and an effective date of June 1, 2003. PGE states that a copy of the filing was served upon the Oregon Public Utility Commission.

Comment Date: July 23, 2003.

17. PacifiCorp

[Docket No.ER03-1020-000]

Take notice that on July 2, 2003, PacifiCorp tendered for filing in accordance with 18 CFR 35 of the Commission's Rules and Regulations a Notice of Cancellation of PacifiCorp's Rate Schedule No. 267 with Sierra Pacific Power Company effective April 30, 2000.

PacifiCorp states that copies of this filing were supplied to Sierra Pacific Power Company and the Public Utility Commission of Oregon.

Comment Date: July 23, 2003.

18. Ameren Services Company

[Docket No. ER03-1021-000]

Take notice that on July 2, 2002, Ameren Services Company (ASC) tendered for filing an unexecuted Service Agreement for Firm Point-to-Point Service between ASC and American Electric Power Service Corp., as agent for the AEP Operating Co. ASC asserts that the purpose of the Agreement is to permit ASC to provide transmission service to American Electric Power Service Corp., as agent for the AEP Operating Co. pursuant to Ameren's Open Access Transmission Tariff.

Comment Date: July 23, 2003.

19. New York State Electric & Gas Corporation

[Docket No. ER03-1022-000]

Take notice that on July 2, 2003, New York State Electric & Gas Corporation (NYSEG) tendered for filing pursuant to Section 205 of the Federal Power Act and Section 35.13 of the Commission Regulations, an amendment to Rate Schedule 200 a Facilities Agreement with the New York Power Authority (NYPA).

NYSEG requests an effective date of September 1, 2003. NYSEG states that copies of the filing have been served upon the New York Power Authority and Public Service Commission of the State of New York.

Comment Date: July 23, 2003.

20. American Electric Power Service Corporation

[Docket No.ER03-1023-000]

Take notice that on July 2, 2003, the American Electric Power Service Corporation (AEPSC) tendered for filing pursuant to Section 35.15 of the Federal Energy Regulatory Commission's regulations, 18 CFR Section 35.15 a Notice of Termination of an executed Facilities Agreement between Indian Michigan Power Company and Indeck-Niles, L.L.C. designated as Service Agreement No. 4238 under American Electric Power Operating Companies' Open Access Transmission Tariff.

AEP requests an effective date of July 1, 2003. AEP states that a copy of the filing was served upon Indeck-Niles, L.L.C. and the Public Service Commission of Indiana and Michigan.

Comment Date: July 23, 2003.

21. American Electric Power Service Corporation

[Docket No.ER03-1023-000]

Take notice that on July 2, 2003, the American Electric Power Service Corporation (AEPSC) tendered for filing pursuant to Section 35.15 of the Federal Energy Regulatory Commission's regulations, 18 CFR Section 35.15 a Notice of Termination of an executed Facilities Agreement between Indian Michigan Power Company and Indeck-Niles, L.L.C. designated as Service Agreement No. 4238 under American Electric Power Operating Companies' Open Access Transmission Tariff.

AEP requests an effective date of July 1, 2003. AEP states that a copy of the filing was served upon Indeck-Niles, L.L.C. and the Public Service Commission of Indiana and Michigan.

Comment Date: July 23, 2003.

22. Westar Energy, Inc.

[Docket No. ER03-1024-000

Take notice that on July 2, 2003, Westar Energy, Inc. (Westar) submitted for filing changes to the Electric Service Agreement between Westar Energy, Inc. and the City of St. John, Kansas. Westar states that the changes allow the City of St. John to meet its electric energy requirements through use of its own generation and/or the purchase of outside resources from third parties generating from renewable resources. Additionally, Westar states that the changes will allow St. John to purchase energy under Westar's Market Rate Tariff and extend the term of service an additional two years. Westar also states that these changes meet the conditions of a Stipulation and Agreement reached in FERC Docket No. EC03-23.

Westar states that a copy of this filing was served upon the Kansas Corporation Commission and the City of St. John.

Comment Date: July 23, 2003.

23. FPL Energy Wyoming, LLC

[Docket No. ER03-1025-000]

Take notice that on July 2, 2003, FPL Energy Wyoming, LLC tendered for filing an application for authorization to sell energy and capacity at market-based rates pursuant to section 205 of the Federal Power Act.

Comment Date: July 23, 2003.

24. Portland General Electric Company

[Docket No. ER03-1027-000]

Take notice that on July 3, 2003, Portland General Electric Company (PGE) submitted for filing on executed Service Agreement entered into between PGE and Powerex Corp. (Powerex) under PGE's Open Access Transmission Tariff (OATT).

PGE seeks waiver of the Commission's notice requirements to permit an effective date of June 1,2003 for the Service Agreement. PGE states that copies of the filing were served upon Powerex and the Oregon Public Utility Commission.

Comment Date: July 24, 2003.

25. Midwest Energy, Inc

[Docket Nos. ER03-1028-000, ER03-1029-000ER03-1030-000, ER03-1031-000, ER03-1032-000, ER03-1033-000 and ER03-1034-000]

Take notice that on July 3, 2003, Midwest Energy, Inc. (Midwest) submitted for filing the following:

Rate Schedule No. 21 between Midwest and the City of Ellinwood, Kansas

Rate Schedule No. 23 between Midwest and the City of Stafford, Kansas

Rate Schedule No. 20 between Midwest and the City of Larned, Kansas

Rate Schedule No. 17, Amendment No. 3 between Westar Energy, Inc. and Central Kansas Power Company, Inc., now know as Midwest

Rate Schedule No. 22 between Midwest and the City of Sterling, Kansas

Rate Schedule No. 18, Amendment No. 2 between Midwest and Centel Corporation, now known as Aquila Networks-WPK

Rate Schedule No. 21 between Midwest and the City of Ellinwood, Kansas

Midwest states that these submittals are required to comply with and implement the transfer by sale of certain transmission and distribution facilities by Westar Energy, Inc. (Westar) to Midwest as set forth in the Stipulation and Agreement entered into by and between Westar, Midwest, and the Kansas Municipal Energy Agency (KMEA) and filed with the Commission on June 13, 2003, in Docket No. EC03-23-000. Midwest states that a copy of this filing was served upon the Kansas Corporation Commission and the KEMA and Aquila.

Comment Date: July 24, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-18047 Filed 7-16-03; 8:45 am]

BILLING CODE 6717-01-P